INTERNATIONAL TRADE COMMISSION

[Investigation No. TA-201-076 (Extension)]

Large Residential Washers: Extension of Action

AGENCY: United States International Trade Commission.

ACTION: Institution and Scheduling of an Investigation under section 204(c) of the Trade Act of 1974 (19 U.S.C. 2254(c)).

SUMMARY: Following receipt of a petition on August 3, 2020, requesting extension of the relief action currently in place on imports of large residential washers and parts thereof, the Commission on that date instituted investigation No. TA-201-076 (Extension) under section 204(c) of the Trade Act of 1974 (“the Act”). The purpose of this investigation is to determine whether the action taken by the President under section 203 of the Act with respect to large residential washers and covered parts, provided for in subheadings 8450.20.00, 8450.11.00, 8450.90.60, and 8450.90.20 of the Harmonized Tariff Schedule of the United States (HTS), continues to be necessary to prevent or remedy serious injury and whether there is evidence that the domestic industry is making a positive adjustment to import competition.

DATES: August 3, 2020.

FOR FURTHER INFORMATION CONTACT: Christopher W. Robinson (202-205-2542), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION:

Background.— On January 23, 2018, the President, pursuant to section 203 of the Act (19 U.S.C. 2253), issued Proclamation 9694, imposing a safeguard measure on imports of certain large residential washers and parts thereof in the form of tariff-rate quotas. The proclamation was published in the Federal Register on January 25, 2018 (83 FR 3553). The measure took effect on February 7, 2018, for a period of three years and one day, or through February 7, 2021. The President imposed the measure following receipt of a report from the Commission in December 2017 under section 202 of the Trade Act (19 U.S.C. 2252) that contained an affirmative determination, remedy recommendations, and certain additional findings (see Large Residential Washers, Inv. No. TA-201-076, USITC Publication 4745, Dec. 2017).

Based on a petition filed on behalf of Whirlpool Corporation, Benton Harbor, Michigan, the Commission is instituting this investigation, pursuant to section 204(c) of the Act. The purpose of this investigation is to determine whether the action taken by the President under section 203 of the Act with respect to large residential washers, provided for in subheading 8450.20.00 of the Harmonized Tariff Schedule of the United States (HTS), continues to be necessary to prevent or remedy serious injury and whether there is evidence that the domestic industry is making a positive adjustment to import competition. For further information concerning the conduct of this investigation and rules of general application, consult the Commission's Rules of Practice and Procedure, part 201, subparts A and B (19 CFR part 201), and part 206, subparts A and B (19 CFR part 206).

Participation in the investigation and public service list.—Persons wishing to participate in the investigation as parties must file an entry of appearance with the Secretary to the Commission, as provided in § 201.11 of the Commission's rules, not later than 21 days after publication of this notice in the Federal Register. The Secretary will prepare a public service list containing the names and addresses of all persons, or their representatives, who are parties to this investigation upon the expiration of the period for filing entries of appearance, and each party submitting a document for the consideration of the Commission in the course of this investigation must serve a copy of that document on all other parties in the manner provided by § 206.8 of the Commission's rules.

Please note the Secretary's Office will accept only electronic filings during this time. Filings must be made through the Commission's Electronic Document Information System (EDIS, https://edis.usitc.gov.) No in-person paper-based filings or paper copies of any electronic filings will be accepted until further notice.

Limited disclosure of confidential business information (CBI) under an administrative protective order (APO) and CBI service list.—Pursuant to § 206.54(e) of the Commission's rules, the Secretary will make CBI gathered in this investigation available to authorized applicants under the APO issued in the investigation in accordance with the procedures set forth in section 206.17 of the rules, provided that the application is made not later than 21 days after the publication of this notice in the Federal Register. The Secretary will maintain a separate service list for those parties authorized to receive CBI under the APO.

Hearing.—The Commission will hold a hearing in connection with this investigation beginning at 9:30 a.m. on November 5, 2020. Information about the place and form of the hearing, including about how to participate in and/or view the hearing, will be posted on the Commission's website at https://www.usitc.gov/calendarpad/calendar.html . Participating parties should check the Commission's website periodically for updates.

Requests to appear at the hearing should be filed in writing with the Secretary to the Commission on or before October 27, 2020. All persons desiring to appear at the hearing and make oral presentations should participate in a prehearing conference to be held on October 29, 2020, if deemed necessary. Oral testimony and written materials to be submitted at the public hearing are governed by §§ 201.6(b)(2) and 201.13(f) of the Commission's rules. Parties must submit any request to present a portion of their hearing testimony in camera no later than 7 business days prior to the date of the hearing.

Written submissions.—Each participating party is encouraged to submit a prehearing brief to the Commission. The deadline for filing prehearing briefs is October 26, 2020. Parties may also file written testimony in connection with their presentation at the hearing and posthearing briefs. The deadline for filing posthearing briefs is November 12, 2020. In addition, any person who has not entered an appearance as a party to the investigation may submit a written statement of information on or before November 12, 2020. All written submissions must conform with the provisions of sections 201.8, 206.7, and 206.8 of the Commission's rules; any submissions that contain CBI must also conform with the requirements of sections 201.6 of the Commission's rules.

The Commission's Handbook on Filing Procedures, available on the Commission's website at https://www.usitc.gov/documents/handbook_on_filing_procedures.pdf, further explains the Commission's procedures with respect to filings.

Additional written submissions to the Commission, including requests pursuant to section 201.12 of the Commission's rules, will not be accepted unless good cause is shown for accepting such submissions, or unless the submission is pursuant to a specific request by a Commissioner or Commission staff.

In accordance with §§ 201.16(c) and 206.8 of the rules, each document filed by a party to the investigation must be served on all other parties to the investigation (as identified by either the public or CBI service list), and a certificate of service must be timely filed. The Secretary will not accept a document for filing without a certificate of service.

Authority: This investigation is being conducted under authority of section 204(c) of the Act; this notice is published pursuant to § 206.3 of the Commission's rules.

By order of the Commission.
Issued: August 7, 2020.
Lisa Barton,
Secretary to the Commission.

[FR Doc. 2020-17615 Filed 8-11-20; 8:45 am]

BILLING CODE 7020-02-P